DEPARTMENT OF TRANSPORTATION

Surface Transportation Board

[STB Finance Docket No. 34610]

Stillwater Central Railroad, Inc.—Lease Exemption—The Burlington Northern and Santa Fe Railway Company

The Stillwater Central Railroad, Inc. (SLWC), a Class III rail carrier, has filed a verified notice of exemption under 49 CFR 1150.41 et seq. to acquire by lease and to operate approximately 12.6 miles of rail line owned by The Burlington Northern and Santa Fe Railway Company (BNSF), between: (1) Milepost 549.01 at Wheatland, OK, and milepost 542.0 at Oklahoma City, OK, including the Dayton Lead in Wheatland; (2) milepost 540.0 west of the BNSF North Yard, in Oklahoma City, and milepost 536.4 in Oklahoma City, including the North Yard; and (3) milepost 0.0 on the Packing Town Lead, and a point 500 feet west of the wye connecting the Packing Town Lead with BNSF's Red Rock Subdivision, in Oklahoma City.¹ SLWC will also acquire approximately 5.5 miles of incidental overhead trackage rights between: (1) milepost 384.6 and milepost 390.0, on the Red Rock Subdivision, in Oklahoma City; and (2) a point 500 feet west of the wye connecting the Packing Town Lead and the point of connection between the Packing Town Lead and BNSF's Red Rock Subdivision.

¹ BNSF will retain overhead trackage rights over the leased rail lines.

SLWC certifies that its projected annual revenues as a result of this transaction will not result in the creation of a Class II or Class I rail carrier. But, because SLWC's projected annual revenues will exceed $5 million, SLWC has certified to the Board on October 29, 2004, that it sent the required notice of the transaction to the national offices of all labor unions representing employees on the affected lines and posted a copy of the notice at the workplace of the employees on the affected lines on the same date. See 49 CFR 1150.42(e).

The transaction was scheduled to be consummated on or after December 28, 2004 (which is 60 days or more after SLWC's certification to the Board that it had complied with the Board's rule at 49 CFR 1150.42(e)).

If the verified notice contains false or misleading information, the exemption is void ab initio. Petitions to revoke the exemption under 49 U.S.C. 10502(d) may be filed at any time. The filing of a petition to revoke will not automatically stay the transaction.

An original and 10 copies of all pleadings, referring to STB Finance Docket No. 36410, must be filed with the Surface Transportation Board, 1925 K Street, NW., Washington, DC 20423-0001. In addition, a copy of each pleading must be served on Karl Morell, Ball Janik LLP, Suite 225, 1455 F Street, NW., Washington, DC 20005.

Board decisions and notices are available on our Web site at http://www.stb.dot.gov.

Decided: January 12, 2005.
By the Board, David M. Konschnik, Director, Office of Proceedings.
Vernon A. Williams,
Secretary.

[FR Doc. 05-1007 Filed 1-18-05; 8:45 am]

BILLING CODE 4915-01-P